DEPARTMENT OF THE INTERIOR

Bureau of Land Management

[14X LLORM050000.L63340000.DU0000 HAG 14-0138]

Notice of Intent To Amend the Resource Management Plan for the Medford District Office, Oregon and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Medford District Office, Medford, Oregon intends to prepare a Resource Management Plan (RMP) amendment with an associated Environmental Assessment (EA) for the Medford RMP, and by this notice is announcing the beginning of the scoping process to solicit public comments and identify issues.

DATES: This notice initiates the public scoping process for the RMP amendment with an associated EA. Comments on issues may be submitted in writing until October 8, 2014. The date(s) and location(s) of any scoping meetings will be announced at least 15 days in advance through local news media, newspapers and the BLM Web site at http://www.blm.gov/or/districts/medford/index.php. In order to be included in the analysis, all comments must be received prior to the close of the 30-day scoping period or 15 days after the last public meeting, whichever is later. We will provide additional opportunities for public participation as appropriate.

ADDRESSES: You may submit comments on issues and planning criteria related to the Medford RMP Amendment/EA by any of the following methods:

• Web site: http://www.blm.gov/or/districts/medford/index.php

• Email: BLM_OR_MD_Mail@blm.gov

• Fax: 541-618-2400

• Mail: 3040 Biddle Road, Medford, OR 97504

Documents pertinent to this proposal may be examined at the Medford Interagency Office, 3040 Biddle Road, Medford, OR 97504.

FOR FURTHER INFORMATION CONTACT: Jean Williams, Planning and Environmental Coordinator, telephone: 541-618-2385; address: 3040 Biddle Road, Medford, OR 97504; email: BLM_OR_MD_Mail@blm.gov. Contact Ms. Williams to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM District Office, Medford, Oregon intends to prepare an RMP amendment with an associated EA for the Medford RMP, announces the beginning of the scoping process, and seeks public input on issues and planning criteria. The planning area is located in Jackson County, Oregon and encompasses approximately 13,556 acres, including 2,327 acres of BLM land, 589 acres of land managed by State and local government agencies, 1,741 acres owned by The Nature Conservancy (TNC), 795 acres of TNC Easement on private lands, and 8,104 acres of other private land. The purpose of the public scoping process is to determine relevant issues that will influence the scope of the environmental analysis, including alternatives, and guide the planning process. Preliminary issues for the plan amendment area have been identified by BLM personnel; Federal, State, and local agencies; and other stakeholders. The issues include: Incorporating acquired parcels and potential future acquisitions into the Table Rocks Area of Critical Environmental Concern (ACEC) to help disperse recreation use and reduce impacts to sensitive resources; identifying long-term management needed to protect and enhance the unique historical, cultural, and natural features for which the Table Rocks ACEC and Outstanding Natural Area (ONA) were designated including state and federally threatened species; potentially removing a 0.9 acre graveled parcel used for overflow parking that does not contain ACEC resources from ACEC and ONA management; identifying opportunities to apply hierarchical mitigation strategies for on-site, regional, and compensatory mitigation strategies; and identifying areas appropriate to apply landscape-level conservation and management actions to achieve regional mitigation objectives.

Preliminary planning criteria include:

1. The BLM will complete the plan amendment in compliance with Federal Land Policy Management Area (FLPMA) (43 U.S.C. 1701 et seq.), NEPA, and other applicable laws and regulations.

2. Lands addressed in this amendment will be public lands managed by the BLM. No decisions will apply to lands the BLM does not manage.

3. Where existing resource management planning decisions are still valid, those decisions will remain unchanged and will be incorporated into the Table Rocks RMP amendment.

4. The plan amendment will recognize valid existing rights.

5. The BLM will use a collaborative and multi-jurisdictional approach, when practical, to determine the desired future condition of these public lands.

6. The BLM will strive to make land use plan decisions compatible with existing plans and policies of adjacent local, state, and Federal agencies.

7. The BLM will ensure that land use plan decisions are consistent with other applicable laws and regulations governing the administration of public land.

You may submit comments on issues and planning criteria in writing to the BLM at any public scoping meeting, or you may submit them to the BLM using one of the methods listed in the ADDRESSES section above. To be most helpful, you should submit comments by the close of the 30-day scoping period or within 30 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request of, or be requested by, the BLM to participate in the development of the environmental analysis as a cooperating agency.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP Amendment/EA as to why an issue was placed in category two or three. The public is also encouraged to help identify any management questions and concerns that should be addressed in the plan. The BLM will work collaboratively with interested parties to identify the management decisions that are best suited to local, regional, and national needs and concerns.

Before including your address, phone number, email address, or other personal identifying information in your comment, you should be aware that your entire comment—including your personal identifying information—may be made publicly available at any time. While you can ask us in your comment to withhold your personal identifying information from public review, we cannot guarantee that we will be able to do so.

The BLM will use an interdisciplinary approach to develop the plan amendment in order to consider the variety of resource issues and concerns identified. Specialists with expertise in the following disciplines will be involved in the planning process: Botany, cultural resources, fisheries, wildlife, geographic information systems, recreation management, and the National Environmental Policy Act.

Authority: 40 CFR 1501.7 and 43 CFR 1610.2.

Dayne Barron,
Medford District Manager.

[FR Doc. 2014-21320 Filed 9-5-14; 8:45 am]

BILLING CODE 4310-33-P